DEPARTMENT OF TRANSPORTATION

Federal Aviation Administration

14 CFR Part 39

[Docket No. 2003-NE-44-AD; Amendment 39-13569; AD 2004-07-25]

RIN 2120-AA64

Airworthiness Directives; Hartzell Propeller Inc. Models HC-B5MP-3C/M10876K Propellers

AGENCY: Federal Aviation Administration (FAA), DOT.

ACTION: Final rule.

SUMMARY: The FAA is superseding an existing airworthiness directive (AD) for Hartzell Propeller Inc. Model HC-B5MP-3C/M10876K propellers, installed on Short Brothers Model SD3-60 airplanes. That AD currently requires initial and repetitive removal, disassembly, inspection, and rework if necessary of Hartzell Propeller Inc. Model HC-B5MP-3C/M10876K propellers until blades are replaced with new design blades, no later than March 31, 1988. This ad requires installation of new design blades before further flight, on Hartzell Propeller Inc. Models HC-B5MP-3C/M10876K propellers. This AD supersedure is prompted by a review of all currently effective ADs, which found that AD 87-16-02 was not published in the Federal Register to make it effective to all operators, as opposed to just the operators who received actual notice of the original AD. We are issuing this AD to prevent propeller blade separation near the hub, which could result in engine separation from the airplane.

DATES: This AD becomes effective May 21, 2004.

ADDRESSES: You may examine the AD docket, by appointment, at the FAA, New England Region, Office of the Regional Counsel, 12 New England Executive Park, Burlington, MA.

FOR FURTHER INFORMATION CONTACT: Melissa Bradley, Aerospace Engineer, Chicago Aircraft Certification Office, FAA, Small Airplane Directorate, 2300 East Devon Avenue, Des Plaines, IL 60018; telephone: (847) 294-8110; fax: (847) 294-7834.

SUPPLEMENTARY INFORMATION: The FAA proposed to amend 14 CFR part 39 with a proposed airworthiness directive (AD). The proposed AD applies to Hartzell Propeller Inc. Model HC-B5MP-3C/M10876K propellers. We published the proposed AD in the Federal Register on October 16, 2003 (68 FR 59555). That action proposed to require installation of new design blades before further flight, on Hartzell Propeller Inc. Models HC-B5MP-3C/M10876K propellers.

Comments

We provided the public the opportunity to participate in the development of this AD. We received no comments on the proposal or on the determination of the cost to the public.

Conclusion

We have carefully reviewed the available data and determined that air safety and the public interest require adopting the AD as proposed.

Changes to 14 CFR Part 39—Effect on the AD

On July 10, 2002, we issued a new version of 14 CFR part 39 (67 FR 47998, July 22, 2002), which governs the FAA's AD system. That regulation now includes material that relates to altered products, special flight permits, and alternative methods of compliance. The material previously was included in each individual AD. Since the material is included in 14 CFR part 39, we will not include it in future AD actions.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-44-AD” in your request.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding a new airworthiness directive, Amendment 39-13569, to read as follows:

2004-07-25 Hartzell Propeller Inc.: Amendment 39-13569. Docket No. 2003-NE-44-AD. Supersedes Priority Letter AD 87-16-02.

Effective Date

(a) This AD becomes effective May 21, 2004.

Affected ADs

(b) This AD supersedes Priority Letter AD 87-16-02

Applicability

(c) This AD applies to Hartzell Propeller Inc. Model HC-B5MP-3C/M10876K propellers. These propellers are installed on, but not limited to, Short Brothers Model SD3-60 airplanes.

Unsafe Condition

(d) This AD is prompted by a review of all currently effective ADs, which found that AD 87-16-02 was not published in the Federal Register to make it effective to all operators, as opposed to just the operators who received actual notice of the original AD. We are issuing this AD to prevent propeller blade separation near the hub, which could result in engine separation from the airplane.

Compliance

(e) You are responsible for having the actions required by this AD performed within the compliance times specified unless the actions have already been done.

Required Actions

(f) Before further flight, replace propeller blades Model M10876K with blades Model M10876ASK.

(g) After the effective date of this AD, do not install propeller blades Model M10876K on any airplane.

Alternative Methods of Compliance

(h) The Manager, Chicago Aircraft Certification Office, has the authority to approve alternative methods of compliance for this AD if requested using the procedures found in 14 CFR 39.19.

Material Incorporated by Reference

(i) None.

Related Information

(j) None.

Issued in Burlington, Massachusetts, on March 30, 2004.
Francis A. Favara,
Acting Manager, Engine and Propeller Directorate, Aircraft Certification Service.

[FR Doc. 04-8585 Filed 4-15-04; 8:45 am]

BILLING CODE 4910-13-P